DEPARTMENT OF TRANSPORTATION

National Highway Traffic Safety Administration

Reports, Forms and Record Keeping Requirements Agency Information Collection Activity Under OMB Review; Correction

AGENCY: National Highway Traffic Safety Administration, DOT.

ACTION: Notice; correction.

SUMMARY: National Highway Traffic Safety Administration, DOT published a document in the Federal Register of January 30, 2008, concerning request for comments on proposed collection of information in compliance with the Paperwork Reduction Act of 1995 [44 U.S.C. 3501 et seq.]. The document contained incorrect dates.

FOR FURTHER INFORMATION CONTACT: Paul Simmons, 202-366-2315.

Correction

In the Federal Register of January 30, 2008, in FR Doc. 08-377, on page 5627, in the second column, correct the DATES caption to read:

DATES: Comments must be received on or before February 29, 2008.

Issued in Washington, DC, on February 7, 2008.
Kathleen C. DeMeter,
Director, Office of Defects Investigation.

[FR Doc. E8-2694 Filed 2-12-08; 8:45 am]

BILLING CODE 4910-59-P